LEGAL SERVICES CORPORATION

Sunshine Act Meeting of the Board of Directors Operations and Regulations Committee

Time and Date: The Operations and Regulations Committee of the Legal Services Corporation Board of Directors will meet November 19, 2004 and November 20, 2004. On Friday, November 19, 2004, the meeting will begin immediately following conclusion of the Provision for the Delivery of Legal Services Committee's meeting, which is scheduled to conclude its deliberations at approximately 3:30 p.m. On Saturday, November 20, 2004, the Operations and Regulations Committee will reconvene its meeting at approximately 9 a.m., and continue until conclusion of the committee's agenda.

Location: Westin Cincinnati, 21 E. 5th Street, Cincinnati, Ohio.

Status of Meeting: Open.

Matters to be Considered:

Open Session

1. Approval of agenda.

2. Approval of the Committee's meeting minutes of September 11, 2004.

3. Consider and act on Notice of Proposed Rulemaking on financial eligibility, 45 CFR part 1611.

a. Staff report; and

b. Public comment.

4. Consider and act on Mr. Dean Andal's petition for rulemaking to amend LSC regulations on Class Actions, 45 CFR part 1617.

a. Presentation by Mr. Dean Andal;

b. Staff report; and

c. Public comment.

Closed Session

5. Briefing ¹ by LSC President on proposed changes to organizational structure.

¹ Any portion of the closed session consisting solely of staff briefings does not fall within the Sunshine Act's definition of the term “meeting” and, therefore, the requirements of the Sunshine Act do not apply to any such portion of the closed session. 5 U.S.C. 552(b)(a)(2) and (b). See also 45 CFR 1622.2 & 1622.3.

6. Briefing by Inspector General on OIG's plan to look at the internal operations of all components of LSC to determine whether there are opportunities for improvements in efficiency and effectiveness.

Open Session

7. Consider and act on proposed changes to organizational structure.

a. Staff report; and

b. Public comment.

8. Other public comment.

9. Consider and act on other business.

10. Consider and act on adjournment of meeting.

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: November 11, 2004.
Victor M. Fortuno,
Vice President for Legal Affairs, General Counsel & Corporate Secretary.

[FR Doc. 04-25487 Filed 11-12-04; 12:24 pm]

BILLING CODE 7050-01-P